COMMISSION ON CIVIL RIGHTS

Agenda and Notice of Public Meeting of the District of Columbia Advisory Committee; Correction

AGENCY: Commission on Civil Rights.

ACTION: Notice; correction.

SUMMARY: The Commission on Civil Rights published a notice in the Federal Register of May 22, 2017, concerning a meeting of the District of Columbia Advisory Committee. The meeting now will be conducted via conference call; not in-person.

FOR FURTHER INFORMATION CONTACT: Ivy Davis, (202) 376-7533.

Correction

In the Federal Register of District of Columbia, in FR Doc. 2017-10412, on page 23185, correct the Summary to read:

Notice is hereby given, pursuant to the provisions of the rules and regulations of the U.S. Commission on Civil Rights (Commission), and the Federal Advisory Committee Act (FACA), that a planning meeting of the District of Columbia Advisory Committee to the Commission will convene via conference call at 11:30 a.m. EDT on Tuesday, June 13, 2017. Interested members of the public may listen to the discussion by calling the following toll-free conference call-in number: 1-877-723-9523 and conference call ID: 3424799#.

Dated: June 6, 2017.
David Mussatt,
Supervisory Chief, Regional Programs Coordination Unit.

[FR Doc. 2017-12026 Filed 6-9-17; 8:45 am]

BILLING CODE P